DEPARTMENT OF TRANSPORTATION

Federal Transit Administration

Intent To Prepare an Environmental Impact Statement for Proposed Transit Improvements in the Draper Corridor of Metropolitan Salt Lake City, UT

AGENCY: Federal Transit Administration (FTA), Department of Transportation (DOT).

ACTION: Notice of intent to prepare an Environmental Impact Statement.

SUMMARY: The Federal Transit Administration (FTA) and Utah Transit Authority (UTA) intend to prepare an Environmental Impact Statement (EIS) to evaluate proposed public transportation improvements to extend fixed guideway transit service through the cities of Sandy and Draper to the southernmost part of Salt Lake County, Utah. The Wasatch Front Regional Council (WFRC) has adopted a long-range transportation plan, which is a comprehensive system plan and includes the full build-out of public transportation improvements in several corridors. The general alignments of the corridors have been identified in the approved plan. The Draper Transit Corridor has been identified in the plan as a two-track extension of the existing North-South Light Rail Transit (LRT) line from its current terminus at 10000 South in Sandy to about 14600 South in Draper along the UTA owned right-of-way. The Draper Transit Corridor Project, as defined in the WFRC long-range plan, was identified as the preferred alternative at the conclusion of a locally prepared alternatives analysis. The EIS will build on the results of the local alternatives analysis and evaluate other reasonable alternatives in accordance with appropriate statutes and regulations.

The EIS will be prepared in accordance with section 102(2)c of the National Environmental Policy Act of 1969 (NEPA) and pursuant to the Council on the Environmental Quality's regulations (40 CFR parts 1500-1508), FTA/FHWA joint regulations (23 CFR 771) as well as provisions of the Safe, Accountable, Flexible Efficient Transportation Equity Act: A Legacy for Users (SAFETEA-LU). The purpose of this notice is to alert interested parties regarding the intent to prepare the EIS, to provide information on the nature of the proposed project and possible alternatives, to invite public participation in the NEPA process (including providing comments on the scope of the DEIS), and to announce that a public scoping meeting will be conducted.

The EIS will examine and evaluate a number of transit alternatives in the corridor including a Transportation Systems Management (TSM) Alternative. Any additional alternatives generated by the scoping process as well as the proposed station locations for the Build alternatives will also be considered. The alternatives will be compared to a No-Action Alternative for evaluation purposes.

Scoping of the EIS will be accomplished through a public meeting, correspondence with interested persons, organizations and Federal, State and local agencies, and through a meeting with cooperating and participating public agencies. A scoping information packet will be posted on the UTA Web site at http://www.rideuta.com and hard copies of the packet will be distributed on request.

Meeting Dates

Agency Coordination Meeting: An agency coordination meeting will be held at 1 p.m. on Tuesday December 11, 2007 at the Utah Transit Authority Meadowbrook office located at 3500 South 700 West, Salt Lake City, Utah.

Public Scoping Meeting: A Public Scoping meeting to accept comments on the scope of the EIS will be held on Wednesday, December 12, 2007, from 5 p.m. to 8 p.m., at Sprucewood Elementary, located at 12025 South 1000 East, Sandy, Utah.

The project's purpose and need, and the initial set of alternatives proposed for study will be presented at this meeting. Comments may be given verbally or in writing at the scoping meeting. Every reasonable effort will be made to meet special needs. The meeting location will be accessible to persons with disabilities. Individuals who require special accommodations, such as sign language interpreter, to participate in the meeting should contact Ms. Sherry L. Repscher, ADA Compliance Officer, Utah Transit Authority, 3600 South 700 West, Salt Lake City, UT 84119-0810 or by telephone at (801) 262-5626 or TDD at (801) 287-4657.

ADDRESSES: Written comments should be sent to the following address by December 26, 2007: Mary DeLoretto, Utah Transit Authority, 3600 South 700 West, Salt Lake City, UT 84119 or mdeloretto@rideuta.com. The location of the public scoping meeting is given above under “Meeting Dates”.

FOR FURTHER INFORMATION CONTACT: Charmaine Knighton, Deputy Regional Administrator, Region VIII, Federal Transit Administration, 12300 West Dakota Avenue, Suite 310, Denver, CO 80228. Telephone: 720-963-3327.

SUPPLEMENTARY INFORMATION:

I. Scoping

The FTA and UTA invite all interested individuals and organizations, public agencies, and Native American Tribes to comment on the scope of the EIS including the project's purpose and need, alternatives to be evaluated to meet the purpose and need; impacts to be evaluated, and the evaluation methods to be used. Comments should focus on refining the purpose and need statement, developing alternatives to meet the purpose and need that have comparable or lower cost and fewer adverse impacts, and on identifying specific social, economic, or environmental impacts to be evaluated.

II. Description of the Project Study Area and Its Purpose and Need

The Draper Transit Corridor Project study area begins in Sandy City just south of the current end-of-line 10000 South station of the UTA TRAX North-South LRT line. The study area is generally bounded by 10000 South on the north, along 1300 East and one mile east and south of the UTA-owned railroad right-of-way on the east and south, and the western Draper City limits and Jordan River on the west. It is located primarily in the cities of Sandy and Draper, and includes parts of White City, South Jordan, and Bluffdale.

The primary purpose of the Draper Transit Corridor Project is to extend LRT transit service to the southernmost geographic reach of the Salt Lake Valley. The overall goal of the proposed project is to improve mobility in the corridor by extending the existing UTA rail transit line in order to reduce congestion on arterial streets and I-15 during peak travel periods and improve reliability of travel times. The UTA TRAX LRT extension increases transportation system capacity in South Salt Lake County.

The public and participating and cooperating agencies are invited to consider and comment on this preliminary statement of the purpose and need for the proposed project.

III. Alternatives

In addition to a No-Action Alternative, a range of reasonable alternatives will be evaluated in the EIS including, the locally preferred LRT extension in the UTA-owned right-of-way South. Additional alternatives to be considered include:

• Transportation Systems Management (TSM) Alternative: This alternative consists of the best transit service that can be provided to meet the project's purpose and need without building the LRT line extension.

• Other reasonable Build alternatives resulting from the project scoping process, including those that involve other modes or alignments and that satisfy the project purpose and need.

The location of stations will also be developed and presented in the EIS for each build alternative that is advanced.

IV. Probable Effects

The purpose of the EIS is to evaluate the environmental consequences of proposed alternatives for meeting the purpose and need for transit in the Draper corridor before committing financial and other resources to implementing the proposed project. The EIS will examine the extent to which the alternatives result in adverse environmental impacts and identify corresponding actions to eliminate, reduce, or mitigate those impacts.

UTA and FTA will evaluate all significant environmental, social, and economic impacts of the alternatives analyzed in the EIS. Impact areas to be addressed include: Land use, zoning and economic development; secondary development; land acquisition, displacements and relocations; cultural resources (including impacts on historical, archaeological and paleontological resources); parklands/recreational areas; visual and aesthetic qualities; neighborhood compatibility; environmental justice; natural resource impacts (including air quality, wetlands, water resources, geology/soils, wildlife, threatened and endangered species; noise and vibration; and hazardous materials); energy; safety and security; utilities; traffic and transportation impacts and airport operations. Potential impacts will be addressed for the long-term operation of each alternative and the short-term construction period. Measures to avoid, minimize, or mitigate all adverse impacts will be identified, evaluated, and adopted as appropriate.

V. FTA Procedures

The regulation implementing NEPA, as well as provisions of the Safe, Accountable, Flexible, Efficient Transportation Equity Act: A Legacy for Users (SAFETEA-LU), call for public involvement in the NEPA process. Section 6002 of SAFETEA-LU requires that FTA and UTA do the following: (1) Extend an invitation to other Federal and non-Federal agencies and Native American tribes that may have an interest in the proposed project to become “participating agencies;” (2) provide an opportunity for involvement by participating agencies and the public to help define the purpose and need for a proposed project, as well as the range of alternatives for consideration in the EIS; and (3) establish a plan for coordinating public and agency participation in, and comment on, the environmental review process. An invitation to become a participating or cooperating agency, with scoping materials appended, will be extended to other Federal and non-Federal agencies and Native American tribes that may have an interest in the proposed project. It is possible that FTA and UTA will not be able to identify all Federal and non-Federal agencies and Native American tribes that may have such an interest. Any Federal or non-Federal agency or Native American tribe interested in the proposed project that does not receive an invitation to become a participating agency should notify the Project Manager identified above under ADDRESSES at the earliest opportunity.

UTA is seeking federal assistance from the FTA to fund the proposed project under 49 United States Code 5309 and will, therefore, be subject to regulations (49 Code of Federal Regulations (CFR) part 611) related to New Starts projects.

The EIS will be prepared in accordance with NEPA and its implementing regulation issued by the Council on Environmental Quality (40 CFR Parts 1500-1508) and with the FTA/Federal Highway Administration regulations “Environmental Impact and Related Procedures” (23 CFR part 771). In accordance with 23 CFR 771.105(a) and 771.133, FTA will comply with all Federal environmental laws, regulations, and executive orders applicable to the proposed project during the environmental review process to the maximum extent practicable. These requirements include, but are not limited to, the environmental and public hearing provisions of Federal transit laws (49 U.S.C. 5301(e), 5323(b), and 5324); the project-level air quality conformity regulation of the U.S. Environmental Protection Agency (EPA) (40 CFR part 93); The section 404(b)(1) guidelines of EPA (40 CFR part 230); the regulation implementing section 106 of the National Historic Preservation Act (36 CFR Part 800); the regulation implementing section 7 of the Endangered Species Act (50 CFR part 402); Section 4(f) of the Department of Transportation Act (23 CFR 771.135); and Executive Orders 12898 on environmental justice, 11988 on floodplain management, and 11990 on wetlands.

Issued on: November 14, 2007.
Charmaine Knighton,
FTA Deputy Regional Administrator, Region VIII.

[FR Doc. E7-22913 Filed 11-23-07; 8:45 am]

BILLING CODE 4910-57-P